FEDERAL HOUSING FINANCE BOARD

[No. 2006-N-04]

Federal Home Loan Bank Members Selected for Community Support Review

AGENCY: Federal Housing Finance Board.

ACTION: Notice.

SUMMARY: The Federal Housing Finance Board (Finance Board) is announcing the Federal Home Loan Bank (Bank) members it has selected for the 2006-07 second quarter review cycle under the Finance Board's community support requirements regulation. This notice also prescribes the deadline by which Bank members selected for review must submit Community Support Statements to the Finance Board.

DATES: Bank members selected for the review cycle under the Finance Board's community support requirements regulation must submit completed Community Support Statements to the Finance Board on or before September 1, 2006.

ADDRESSES: Bank members selected for the 2006-07 second quarter review cycle under the Finance Board's community support requirements regulation must submit completed Community Support Statements to the Finance Board either by regular mail at the Federal Housing Finance Board, Office of Supervision, Community Investment and Affordable Housing, 1625 Eye Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the September 1, 2006 deadline prescribed in this notice. 12 CFR 944.2(b)(1)(ii) and (c). On or before July 28, 2006, each Bank will notify the members in its district that have been selected for the 2006-07 second quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2006-07 second quarter community support review cycle:

Member | City | State
Federal Home Loan Bank of Boston—District 1
Superior Savings of New England, N.A | Branford | Connecticut
Enfield Federal Savings and Loan Association | Enfield | Connecticut.
Essex Savings Bank | Essex | Connecticut.
First City Bank | New Britain | Connecticut.
Citizens Bank | New London | Connecticut.
Auburn Savings & Loan Association | Auburn | Maine.
First National Bank of Bar Harbor | Bar Harbor | Maine.
First FS&LA of Bath | Bath | Maine.
Aroostook County FS&LA | Caribou | Maine.
Kennebunk Savings Bank | Kennebunk | Maine.
Portland Regional Federal Credit Union | Portland | Maine.
Skowhegan Savings Bank | Skowhegan | Maine.
Kennebec Federal Savings | Waterville | Maine.
North Middlesex Savings Bank | Ayer | Massachusetts.
First Trade Union Bank | Boston | Massachusetts.
Boston Private Bank & Trust Company | Boston | Massachusetts.
First Federal Savings Bank of Boston | Boston | Massachusetts.
Investors Bank & Trust Company | Boston | Massachusetts.
Peoples Federal Savings Bank | Brighton | Massachusetts.
Cambridge Savings Bank | Cambridge | Massachusetts.
East Cambridge Savings Bank | Cambridge | Massachusetts.
Dedham Institution for Savings | Dedham | Massachusetts.
Eagle Bank | Everett | Massachusetts.
Citizens-Union Savings Bank | Fall River | Massachusetts.
Foxboro Federal Savings | Foxboro | Massachusetts.
Georgetown Savings Bank | Georgetown | Massachusetts.
Hyde Park Savings Bank | Hyde Park | Massachusetts.
Marblehead Savings Bank | Marblehead | Massachusetts.
Medford Co-operative Bank | Medford | Massachusetts.
Plymouth Savings Bank | Middleboro | Massachusetts.
Millbury Savings Bank | Millbury | Massachusetts.
Monson Savings Bank | Monson | Massachusetts.
Lawrence Savings Bank | North Andover | Massachusetts.
Saugusbank, a co-operative bank | Saugus | Massachusetts.
Scituate Federal Savings Bank | Scituate | Massachusetts.
Middlesex Federal Savings, F.A | Somerville | Massachusetts.
Spencer Savings Bank | Spencer | Massachusetts.
Hampden Bank | Springfield | Massachusetts.
Bristol County Savings Bank | Taunton | Massachusetts.
The Savings Bank | Wakefield | Massachusetts.
Federal Savings Bank | Dover | New Hampshire.
Franklin Savings Bank | Franklin | New Hampshire.
Meredith Village Savings Bank | Meredith | New Hampshire.
Salem Co-operative Bank | Salem | New Hampshire.
First Brandon National Bank | Brandon | Vermont.
Opportunities Credit Union | Burlington | Vermont.
Randolph National Bank | Randolph | Vermont.
Federal Home Loan Bank of New York—District 2
Pamrapo Savings Bank SLA | Bayonne | New Jersey.
Farmers & Mechanics Bank | Burlington | New Jersey.
Spencer Savings Bank, SLA | Elmwood Park | New Jersey.
Freehold Savings & Loan Association | Freehold | New Jersey.
GSL Savings Bank | Guttenberg | New Jersey.
Oritani Savings Bank | Hackensack | New Jersey.
Hudson United Bank | Mahwah | New Jersey.
Millington Savings Bank | Millington | New Jersey.
Ocean City Home Bank | Ocean City | New Jersey.
Amboy National Bank | Old Bridge | New Jersey.
Investors Savings Bank | Short Hills | New Jersey.
OceanFirst Bank | Tom Rivers | New Jersey.
Bath National Bank | Bath | New York.
Brooklyn Federal Savings Bank | Brooklyn | New York.
Canisteo Savings & Loan Association | Canisteo | New York.
Elmira Savings & Loan, F.A | Elmira | New York.
National Bank of Geneva | Geneva | New York.
Glens Falls National Bank and Trust Company | Glens Falls | New York.
Maple City Savings Bank, FSB | Hornell | New York.
Sunnyside FS&LA of Irvington | Irvington | New York.
The Lyons National Bank | Lyons | New York.
Maspeth Federal Savings and Loan Association | Maspeth | New York.
Massena Savings & Loan Association | Massena | New York.
Cross County Federal Savings Bank | Middle Village | New York.
Provident Bank | Montebello | New York.
The Berkshire Bank | New York | New York.
Carver Federal Savings Bank | New York | New York.
First Tier Bank & Trust | Olean | New York.
Wilber National Bank | Oneonta | New York.
Union State Bank | Orangeburg | New York.
The Upstate National Bank | Rochester | New York.
Saratoga National Bank & Trust Company | Saratoga Springs | New York.
The National Bank of Stamford | Stamford | New York.
Federal Home Loan Bank of Pittsburgh—District 3
Delaware National Bank | Georgetown | Delaware.
Artisans' Bank | Wilmington | Delaware.
Laurel Savings Bank | Allison Park | Pennsylvania.
Reliance Savings Bank | Altoona | Pennsylvania.
Investment Savings Bank | Altoona | Pennsylvania.
Keystone Nazareth Bank & Trust | Bethlehem | Pennsylvania.
Columbia County Farmers National Bank | Bloomsburg | Pennsylvania.
The Bryn Mawr Trust Company | Bryn Mawr | Pennsylvania.
Nextier | Butler | Pennsylvania.
Community Bank, N.A | Carmichaels | Pennsylvania.
Charleroi Federal Savings Bank | Charleroi | Pennsylvania.
FirsTrust Bank | Conshohocken | Pennsylvania.
Armstrong County Building & Loan Association | Ford City | Pennsylvania.
Greenville Savings Bank | Greenville | Pennsylvania.
Westmoreland FS&LA of Latrobe | Latrobe | Pennsylvania.
Mifflin County Savings Bank | Lewistown | Pennsylvania.
First Citizens National Bank | Mansfield | Pennsylvania.
The First National Bank of Mifflintown | Mifflintown | Pennsylvania.
First Federal Savings Bank | Monessen | Pennsylvania.
Parkvale Savings Bank | Monroeville | Pennsylvania.
Community State Bank of Orbisonia | Orbisonia | Pennsylvania.
Beneficial Mutual Savings Bank | Philadelphia | Pennsylvania.
Prudential Savings Bank | Philadelphia | Pennsylvania.
Republic First Bank | Philadelphia | Pennsylvania.
West View Savings Bank | Pittsburgh | Pennsylvania.
Keystone State Savings Bank | Pittsburgh | Pennsylvania.
Liberty Savings Bank, F.S.B | Pottsville | Pennsylvania.
Union Bank and Trust Company | Pottsville | Pennsylvania.
Elk County Savings & Loan Association | Ridgway | Pennsylvania.
Sewickley Savings Bank | Sewickley | Pennsylvania.
ESSA Bank & Trust | Stroudsburg | Pennsylvania.
Washington Federal Savings Bank | Washington | Pennsylvania.
First FS&LA of Greene County | Waynesburg | Pennsylvania.
Citizens & Northern Bank | Wellsboro | Pennsylvania.
First Sentry Bank, Inc | Huntington | West Virginia.
Huntington Federal Savings Bank | Huntington | West Virginia.
Doolin Security Savings Bank FSB | New Martinsville | West Virginia.
United Bank, Inc | Parkersburg | West Virginia.
First FS&LA of Ravenswood | Ravenswood | West Virginia.
First Federal Savings Bank | Sistersville | West Virginia.
Williamstown National Bank | Williamstown | West Virginia.
Federal Home Loan Bank of Atlanta—District 4
Superior Bank | Birmingham | Alabama.
Alabama Central Credit Union | Birmingham | Alabama.
Brantley Bank and Trust Company | Brantley | Alabama.
Robertson Banking Company | Demopolis | Alabama.
The Citizens Bank | Greensboro | Alabama.
Security Federal Savings Bank | Jasper | Alabama.
Gulf Federal Bank, a FSB | Mobile | Alabama.
The Citizens Bank | Moulton | Alabama.
Phenix-Girard Bank | Phenix City | Alabama.
Bay Bank | Theodore | Alabama.
The Bank of Vernon | Vernon | Alabama.
Bank of Wedowee | Wedowee | Alabama.
Bank of Belle Glade | Belle Glade | Florida.
Community Bank of Manatee | Bradenton | Florida.
Florida Citizens Bank | Gainesville | Florida.
First State Bank of Florida Keys | Key West | Florida.
Commercebank, N.A | Miami | Florida.
International Finance Bank | Miami | Florida.
Charlotte State Bank | Port Charlotte | Florida.
Bank of St. Augustine | St. Augustine | Florida.
Cornerstone Bank | Atlanta | Georgia.
United Community Bank—North Carolina | Blairsville | Georgia.
The Claxton Bank | Claxton | Georgia.
Chestatee State Bank | Dawsonville | Georgia.
Haven Trust Bank | Decatur | Georgia.
Colony Bank Southeast | Douglas | Georgia.
Bank of Eastman | Eastman | Georgia.
Appalachian Community Bank | Ellijay | Georgia.
Capital Bank Fort | Oglethorpe | Georgia.
Bank of Hiawassee | Hiawassee | Georgia.
Farmers State Bank | Lincolnton | Georgia.
Peoples Bank | Lyons | Georgia.
Bank of Monticello | Monticello | Georgia.
Mount Vernon Bank | Mt. Vernon | Georgia.
The Citizens Bank | Nashville | Georgia.
Colony Bank Wilcox | Rochelle | Georgia.
Greater Rome Bank | Rome | Georgia.
Georgia Central Bank | Social Circle | Georgia.
Community First Bank | Baltimore | Maryland.
Mercantile Safe Deposit and Trust Company | Baltimore | Maryland.
Easton Bank and Trust Company | Easton | Maryland.
Jarrettsville Federal S&L Association | Jarrettsville | Maryland.
Maryland Bank and Trust Company, N.A | Lexington Park | Maryland.
First National Bank of North East | North East | Maryland.
Colombo Bank | Rockville | Maryland.
The East Carolina Bank | Engelhard | North Carolina.
First Bank | Troy | North Carolina.
Sandhills Bank | Bethune | South Carolina.
First Federal Savings and Loan Association | Charleston | South Carolina.
The Peoples Bank | Iva | South Carolina.
The Palmetto Bank | Laurens | South Carolina.
The Citizens Bank | Olanta | South Carolina.
Heritage Bank and Trust | Chesapeake | Virginia.
First State Bank | Danville | Virginia.
Powell Valley National Bank | Jonesville | Virginia.
The Bank of Charlotte County | Phenix | Virginia.
Valley Bank | Roanoke | Virginia.
Federal Home Loan Bank of Cincinnati—District 5
Bank of Edmonson County | Brownsville | Kentucky.
United Citizens Bank & Trust Company | Campbellsburg | Kentucky.
Citizens Bank & Trust Company | Campbellsville | Kentucky.
Farmers and Traders Bank of Campton | Campton | Kentucky.
Carrollton Federal Bank | Carrollton | Kentucky.
The First National Bank of Muhlenburg County | Central City | Kentucky.
First Community Bank of Western Kentucky, Inc | Clinton | Kentucky.
Clinton Bank | Clinton | Kentucky.
The Farmers National Bank of Cynthiana | Cynthiana | Kentucky.
Central Kentucky Federal Savings Bank | Danville | Kentucky.
United Kentucky Bank of Pendleton County, Inc | Falmouth | Kentucky.
State Bank & Trust Company | Harrodsburg | Kentucky.
First Federal Savings & Loan Association | Hazard | Kentucky.
The Citizens National Bank | Lebanon | Kentucky.
Peoples Bank | Lebanon | Kentucky.
Home Federal Bank Corporation | Middlesboro | Kentucky.
Peoples Bank of Mt. Washington | Mt. Washington | Kentucky.
Liberty National Bank | Ada | Ohio.
Peoples Savings and Loan Company | Bucyrus | Ohio.
The Clifton Heights S&L Company | Cincinnati | Ohio.
First Safety Bank | Cincinnati | Ohio.
The Savings Bank | Circleville | Ohio.
The Peoples Bank Company | Coldwater | Ohio.
First City Bank | Columbus | Ohio.
The Cortland Savings and Banking Company | Cortland | Ohio.
Ohio Heritage Bank | Coshocton | Ohio.
Valley Savings Bank | Cuyahoga Falls | Ohio.
First Federal Bank of the Midwest | Defiance | Ohio.
Fidelity Federal Savings and Loan Association | Delaware | Ohio.
Heartland Bank | Gahanna | Ohio.
Home Building and Loan Company | Greenfield | Ohio.
Greenville Federal Savings and Loan Association | Greenville | Ohio.
Ohio River Bank | Ironton | Ohio.
Liberty Federal Savings Bank | Ironton | Ohio.
The Home Savings and Loan Company of Kenton, Ohio | Kenton | Ohio.
Kingston National Bank | Kingston | Ohio.
The Citizens Bank of Logan | Logan | Ohio.
The Mechanics Savings Bank | Mansfield | Ohio.
Peoples Bank | Marietta | Ohio.
The Middlefield Banking Company | Middlefield | Ohio.
The Nelsonville Home and Savings Association | Nelsonville | Ohio.
First FS&LA of Newark | Newark | Ohio.
The National Bank of Oak Harbor | Oak Harbor | Ohio.
The Valley Central Savings Bank | Reading | Ohio.
The Citizens Banking Company | Sandusky | Ohio.
Peoples Federal Savings and Loan Association of Sidney | Sidney | Ohio.
Commodore Bank | Somerset | Ohio.
Monroe Federal Savings and Loan Association | Tipp City | Ohio.
Van Wert Federal Savings Bank | Van Wert | Ohio.
Home Savings Bank | Wapakoneta | Ohio.
The Waterford Commercial and Savings Bank | Waterford | Ohio.
Adams County Building and Loan Company | West Union | Ohio.
Century National Bank | Zanesville | Ohio.
Bank of Bartlett | Bartlett | Tennessee.
Farmers & Merchants Bank | Clarksville | Tennessee.
Farmers and Merchants Bank | Dyer | Tennessee.
First Citizens National Bank of Dyersburg | Dyersburg | Tennessee.
Elizabethton Federal Savings Bank | Elizabethton | Tennessee.
Progressive Savings Bank, FSB | Jamestown | Tennessee.
Home Federal Bank of Tennessee | Knoxville | Tennessee.
Volunteer Federal Savings & Loan Association | Madisonville | Tennessee.
Jefferson Federal Bank | Morristown | Tennessee.
TNBANK | Oak Ridge | Tennessee.
Citizens Community Bank | Winchester | Tennessee.
Federal Home Loan Bank of Indianapolis—District 6
First Federal Savings Bank—Angola | Angola | Indiana.
Peoples FSB of Dekalb County | Auburn | Indiana.
Farmers and Mechanics Bank | Bloomfield | Indiana.
The First State Bank | Bourbon | Indiana.
Home Federal Bank | Columbus | Indiana.
Community First Bank | Corydon | Indiana.
Old National Bank | Evansville | Indiana.
Farmers Bank | Frankfort | Indiana.
Newton County Loan & SA, FSB | Goodland | Indiana.
First Federal Savings & Loan of Greensburg | Greensburg | Indiana.
Lake FS & LA of Hammond | Hammond | Indiana.
HFS Bank, FSB | Hobart | Indiana.
Security Federal Savings Bank | Logansport | Indiana.
City Savings Bank | Michigan City | Indiana.
The First National Bank of Monterey | Monterey | Indiana.
First Merchants Bank, N.A | Muncie | Indiana.
Mutual FSB | Muncie | Indiana.
American Savings, FSB | Munster | Indiana.
Community Bank | Noblesville | Indiana.
The First National Bank of Odon | Odon | Indiana.
Lincoln Bank | Plainfield | Indiana.
Scottsburg Building & Loan Association | Scottsburg | Indiana.
Owen Community Bank, s.b | Spencer | Indiana.
First Financial Bank | Terre Haute | Indiana.
First FSB of Wabash | Wabash | Indiana.
Peoples Bank | Washington | Indiana.
First Federal Savings Bank | Washington | Indiana.
Bank of Wolcott | Wolcott | Indiana.
First Federal of Northern Michigan | Alpena | Michigan.
Bay Port State Bank | Bay Port | Michigan.
Farmers State Bank Breckenridge | Breckenridge | Michigan.
Eaton Federal Savings Bank | Charlotte | Michigan.
Huron Community Bank | East Tawas | Michigan.
Hastings City Bank | Hastings | Michigan.
Kalamazoo County State Bank | Schoolcraft | Michigan.
First National Bank of St. Ignace | St. Ignace | Michigan.
Northwestern Bank | Traverse City | Michigan.
Federal Home Loan Bank of Chicago—District 7
West Pointe Bank and Trust Company | Belleville | Illinois.
Belvidere National Bank and Trust Company | Belvidere | Illinois.
American Enterprise Bank | Buffalo Grove | Illinois.
Farmers State Bank of Camp Point | Camp Point | Illinois.
Cornerstone Bank & Trust, N.A | Carrolton | Illinois.
First Federal Savings Bank of Champaign-Urbana | Champaign | Illinois.
Central Illinois Bank | Champaign | Illinois.
Charleston Federal Savings & Loan Association | Charleston | Illinois.
Lincoln Park Savings Bank | Chicago | Illinois.
Broadway Bank | Chicago | Illinois.
Central FS&LA of Chicago | Chicago | Illinois.
Columbus Savings Bank | Chicago | Illinois.
Liberty Bank for Savings | Chicago | Illinois.
Mutual Federal Savings and Loan | Chicago | Illinois.
Collinsville Building and Loan Association | Collinsville | Illinois.
Home Federal Savings & Loan Association | Collinsville | Illinois.
First Federal Savings and Loan Association | Edwardsville | Illinois.
Forreston State Bank | Forreston | Illinois.
Hickory Point Bank & Trust, FSb | Forsyth | Illinois.
Glenview State Bank | Glenview | Illinois.
Guardian Savings Bank FSB | Granite City | Illinois.
First National Bank of Grant Park | Grant Park | Illinois.
The Granville National Bank | Granville | Illinois.
The Bradford National Bank | Greenville | Illinois.
The Havana National Bank | Havana | Illinois.
Herrin Security Bank | Herrin | Illinois.
South End Savings, s.b | Homewood | Illinois.
First National Bank of Jonesboro | Jonesboro | Illinois.
Eureka Savings Bank | La Salle | Illinois.
First State Bank of Western Illinois | LaHarpe | Illinois.
First National Bank of Illinois | Lansing | Illinois.
Lisle Savings Bank | Lisle | Illinois.
First National Bank of Litchfield | Litchfield | Illinois.
West Suburban Bank | Lombard | Illinois.
First Security Bank | Mackinaw | Illinois.
First National Bank of Manhattan | Manhattan | Illinois.
Milford Building & Loan Association | Milford | Illinois.
Nashville Savings Bank | Nashville | Illinois.
Wheaton Bank & Trust Company | Northfield | Illinois.
Illini State Bank | Oglesby | Illinois.
The Poplar Grove State Bank | Poplar Grove | Illinois.
Citizens First National Bank | Princeton | Illinois.
First Robinson Savings Bank, NA | Robinson | Illinois.
First FS&LA of Shelbyville | Shelbyville | Illinois.
The First National Bank | Vandalia | Illinois.
International Bank of Amherst | Amherst | Wisconsin.
First National Bank of Bangor | Bangor | Wisconsin.
Bank of Brodhead | Brodhead | Wisconsin.
Bank of Deerfield | Deerfield | Wisconsin.
Fox Valley Savings Bank | Fond du Lac | Wisconsin.
National Exchange Bank & Trust | Fond du Lac | Wisconsin.
Continental Savings Bank, | Greenfield | Wisconsin.
ISB Community Bank | Ixonia | Wisconsin.
Ladysmith Federal Savings & Loan Association | Ladysmith | Wisconsin.
Markesan State Bank | Markesan | Wisconsin.
Farmers State Bank | Markesan | Wisconsin.
Fidelity National Bank | Medford | Wisconsin.
Merrill Federal Savings and Loan Association | Merrill | Wisconsin.
Guaranty Bank, F.S.B | Milwaukee | Wisconsin.
Bank of Elmwood | Racine | Wisconsin.
Heritage Bank | Spencer | Wisconsin.
First Bank | Tomah | Wisconsin.
The Farmers State Bank of Waupaca | Waupaca | Wisconsin.
Paper City Savings Association | Wisconsin. Rapids | Wisconsin..
Federal Home Loan Bank of Des Moines—District 8
Citizens Savings Bank | Anamosa | Iowa.
Community State Bank, N.A | Ankeny | Iowa.
Ashton State Bank | Ashton | Iowa.
Atkins Savings Bank | Atkins | Iowa.
Iowa Trust and Savings Bank | Centerville | Iowa.
First Security Bank and Trust Company | Charles City | Iowa.
Page County Federal Savings Association | Clarinda | Iowa.
First Trust and Savings Bank | Corlaville | Iowa.
First Federal Savings Bank of Creston, F.S.B. | Creston | Iowa.
Principal Bank | Des Moines | Iowa.
Fidelity Bank & Trust | Dyersville | Iowa.
Community Savings Bank | Edgewood | Iowa.
First American Bank | Fort Dodge | Iowa.
Citizens State Bank | Ft. Dodge | Iowa.
Hampton State Bank | Hampton | Iowa.
Independence Federal Bank for Savings | Independence | Iowa.
Farmers & Merchants Savings Bank | Iowa. City | Iowa.
First Community Bank | Keokuk | Iowa.
Keokuk Savings Bank & Trust Company | Keokuk | Iowa.
Keystone Savings Bank | Keystone | Iowa.
Iowa State Savings Bank | Knoxville | Iowa.
Cedar Valley Bank & Trust | La Porte | Iowa.
United Community Bank | Milford | Iowa.
New Albin Savings Bank | New Albin | Iowa.
City State Bank | Norwalk | Iowa.
Northwestern Bank | Orange City | Iowa.
Clarke County State Bank | Osceola | Iowa.
Bank Iowa | Oskaloosa | Iowa.
Citizens Bank | Sac City | Iowa.
American State Bank | Sioux Center | Iowa.
Solon State Bank | Solon | Iowa.
Northwest Federal Savings Bank | Spencer | Iowa.
MetaBank | Storm Lake | Iowa.
Randall-Story State Bank | Story City | Iowa.
Waukee State Bank | Waukee | Iowa.
Liberty Bank, FSB | West Des Moines | Iowa.
West Liberty State Bank | West Liberty | Iowa.
Viking Savings Association, F.A. | Alexandria | Minnesota
Northern National Bank | Baxter | Minnesota
First State Bank of Bigfork | Bigfork | Minnesota
Brainerd Savings & Loan Association | Brainerd | Minnesota
State Bank in Eden Valley | Eden Valley | Minnesota
Bank Midwest, MN IA, N.A | Fairmont | Minnesota
State Bank of Faribault | Faribault | Minnesota
First National Bank of Menahga | Menahga | Minnesota
TCF National Bank | Minneapolis | Minnesota
First Minnesota Bank, NA | Minnetonka | Minnesota
The First National Bank of Osakis | Osakis | Minnesota
First National Bank of Plainview | Plainview | Minnesota
Citizens Independent Bank | St. Louis Park | Minnesota
First National Bank Minnesota | St. Peter | Minnesota
Minnwest Bank South | Tracy | Minnesota
Queen City Federal Savings Bank | Virginia | Minnesota
Missouri Federal Savings Bank | Cameron | Missouri
Southwest Missouri Bank | Carthage | Missouri
North American Savings Bank, FSB | Grandview | Missouri
MCM Savings Bank, F.S.B. | Hannibal | Missouri
First Bank | Hazelwood | Missouri
First Federal Bank, F.S.B | Kansas City | Missouri.
Liberty Savings Bank, FSB | Liberty | Missouri.
Clay County Savings Bank | Liberty | Missouri.
First Home Savings Bank | Mountain Grove | Missouri.
Home S&LA of Norborne, F.A | Norborne | Missouri.
Southern Missouri Bank & Trust Company | Poplar Bluff | Missouri.
Central Federal Savings and Loan Association | Rolla | Missouri.
Montgomery Bank, NA | Sikeston | Missouri.
Guaranty Bank | Springfield | Missouri.
Midwest FS&LA of St. Joseph | St. Joseph | Missouri.
Lindell Bank & Trust Company | St. Louis | Missouri.
Southern Commercial Bank | St. Louis | Missouri.
Bremen Bank and Trust Company | St. Louis | Missouri.
Starion Financial | Bismarck | North Dakota.
Ramsey National Bank & Trust Company | Devils Lake | North Dakota.
American State Bank & Trust | Dickinson | North Dakota.
Security State Bank | Dunseith | North Dakota.
Alerus Financial, N.A | Grand Forks | North Dakota.
National Bank of Harvey | Harvey | North Dakota.
Dacotah Bank | Aberdeen | South Dakota.
First Savings Bank | Beresford | South Dakota.
First Federal Bank | Beresford | South Dakota.
First Bank & Trust | Brookings | South Dakota.
Bryant State Bank | Bryant | South Dakota.
First Western Federal Savings Bank | Rapid City | South Dakota.
Federal Home Loan Bank of Dallas—District 9
FNBC | Ash Flat | Arkansas.
ANB Financial, N.A | Bentonville | Arkansas.
Heartland Community Bank | Camden | Arkansas.
Corning Savings and Loan Association | Corning | Arkansas.
Arkansas Diamond Bank | Glenwood | Arkansas.
First Arkansas Bank & Trust | Jacksonville | Arkansas.
First Community Bank | Jonesboro | Arkansas.
Arkansas Bankers' Bank | Little Rock | Arkansas.
Diamond State Bank | Murfreesboro | Arkansas.
First National Bank | Paragould | Arkansas.
Bank of Rogers | Rogers | Arkansas.
The Bank of Star City | Star City | Arkansas.
First National Bank USA | Boutte | Louisiana.
Citizens Progressive Bank | Columbia | Louisiana.
Beauregard Federal Savings Bank | DeRidder | Louisiana.
Home Bank | Lafayette | Louisiana.
First Federal Bank of Louisiana | Lake Charles | Louisiana.
Bank of New Orleans | Metairie | Louisiana.
Minden Building and Loan Association | Minden | Louisiana.
Dryades Savings Bank, FSB | New Orleans | Louisiana.
Fifth District Savings & Loan Association | New Orleans | Louisiana.
Union Savings and Loan Association | New Orleans | Louisiana.
Plaquemine Bank & Trust Company | Plaquemine | Louisiana.
Rayne Building and Loan Association | Rayne | Louisiana.
Citizens Bank and Trust Company | Springhill | Louisiana.
Statewide Bank | Terrytown | Louisiana.
Community Bank, N.A | Lucedale | Mississippi.
First National Bank of Pontotoc | Pontotoc | Mississippi.
First Bank & Trust of Mississippi | Winona | Mississippi.
Alamogordo Federal Savings & Loan Association | Alamogordo | New Mexico.
Charter Bank | Albuquerque | New Mexico.
First National Bank | Artesia | New Mexico.
The First National Bank of New Mexico | Clayton | New Mexico.
First National Bank in Las Vegas | Las Vegas | New Mexico.
First Federal Bank | Roswell | New Mexico.
Firstbank Southwest, National Association | Amarillo | Texas.
Southwest Securities FSB | Arlington | Texas.
Affiliated Bank, FSB | Bedford | Texas.
The Brenham National Bank | Brenham | Texas.
Texas Bank | Brownwood | Texas.
The First National Bank of Chillicothe | Chillicothe | Texas.
First Bank of West Texas | Coahoma | Texas.
The First State Bank | Columbus | Texas.
First Bank of Conroe, N.A | Conroe | Texas.
First Commerce Bank | Corpus Christi | Texas.
Citizens National Bank | Crockett | Texas.
Cuero State Bank, s.s.b | Cuero | Texas.
Dalhart Federal Savings and Loan Association | Dalhart | Texas.
Preston National Bank | Dallas | Texas.
Colonial Savings, F.A | Fort Worth | Texas.
Citizens National Bank | Fort Worth | Texas.
GNB Financial, na | Gainesville | Texas.
National Bank | Gatesville | Texas.
Gladewater National Bank | Gladewater | Texas.
Houston Community Bank, N.A | Houston | Texas.
Justin State Bank | Justin | Texas.
City National Bank | Kilgore | Texas.
National Bank & Trust | La Grange | Texas.
Fayette Savings Bank, ssb | La Grange | Texas.
Falcon National Bank | Laredo | Texas.
Commerce Bank | Laredo | Texas.
Texas Bank and Trust Company | Longview | Texas.
East Texas Professional Credit Union | Longview | Texas.
First State Bank | Louise | Texas.
Lubbock National Bank | Lubbock | Texas.
First Bank & Trust Company | Lubbock | Texas.
First National Bank of Mount Vernon, Texas | Mount Vernon | Texas.
First National Bank in Munday | Munday | Texas.
The Morris County National Bank | Naples | Texas.
First Federal Community Bank | Paris | Texas.
Peoples Bank | Paris | Texas.
Gulf Coast Educators Federal Credit Union | Pasadena | Texas.
PointBank, N.A | Pilot Point | Texas.
Pilgrim Bank | Pittsburg | Texas.
Wood County National Bank | Quitman | Texas.
Robert Lee State Bank | Robert Lee | Texas.
Intercontinental National Bank | San Antonio | Texas.
Citizens State Bank | Sealy | Texas.
American National Bank of Texas | Terrell | Texas.
Citizens 1st Bank | Tyler | Texas.
Hill Bank & Trust Company | Weimar | Texas.
American National Bank | Wichita Falls | Texas.
Wilson State Bank | Wilson | Texas.
Federal Home Loan Bank of Topeka—District 10
San Luis Valley Federal Bank | Alamosa | Colorado.
Collegiate Peaks Bank | Buena Vista | Colorado.
Rocky Mountain Bank and Trust | Colorado. Springs | Colorado.
Pikes Peak National Bank | Colorado. Springs | Colorado.
Vectra Bank Colorado | Denver | Colorado.
First National Bank | Fort Collins | Colorado.
Community Banks of Colorado | Greenwood Village | Colorado.
Gunnison Savings and Loan Association | Gunnison | Colorado.
Rio Grande Savings and Loan Association | Monte Vista | Colorado.
Montrose Bank | Montrose | Colorado.
Peoples National Bank Monument | Monument | Colorado.
The First National Bank of Ordway | Ordway | Colorado.
Paonia State Bank | Paonia | Colorado.
Century Savings & Loan Association | Trinidad | Colorado.
Park State Bank & Trust | Woodland Park | Colorado.
The Prairie State Bank | Augusta | Kansas.
First National Bank of Cimarron | Cimarron | Kansas.
Farmers Bank & Trust, N.A | Great Bend | Kansas.
Golden Belt Bank, FSA | Hays | Kansas.
Citizens State Bank and Trust Company | Hiawatha | Kansas.
Girard National Bank | Horton | Kansas.
Central National Bank | Junction City | Kansas.
Argentine Federal Savings | Kansas. City | Kansas.
Citizens Bank of Kansas, N.A | Kingman | Kansas.
University National Bank | Lawrence | Kansas.
Mutual Savings Association, FSA | Leavenworth | Kansas.
The Citizens State Bank | Moundridge | Kansas.
Midland National Bank of Newton | Newton | Kansas.
Security Savings Bank, FSB | Olathe | Kansas.
Bank of Blue Valley | Overland Park | Kansas.
Peabody State Bank | Peabody | Kansas.
The Plains State Bank | Plains | Kansas.
The Peoples Bank | Pratt | Kansas.
First Bank Kansas | Salina | Kansas.
The Stockton National Bank | Stockton | Kansas.
First National Bank | Syracuse | Kansas.
The Bank of Tescott | Tescott | Kansas.
Silver Lake Bank | Topeka | Kansas.
Capitol Federal Savings Bank | Topeka | Kansas.
Kendall State Bank | Valley Falls | Kansas.
The Bank of Commerce & Trust Company | Wellington | Kansas.
Garden Plain State Bank | Wichita | Kansas.
Commerce Bank, N.A. | Wichita | Kansas.
Western Heritage Credit Union | Alliance | Nebraska.
Farmers & Merchants National Bank | Ashland | Nebraska.
Clarkson Bank | Clarkson | Nebraska.
Nebraska Energy Federal Credit Union | Columbus | Nebraska.
American Interstate Bank | Elkhorn | Nebraska.
Genoa National Bank | Genoa | Nebraska.
TierOne Bank | Lincoln | Nebraska.
Otoe County Bank & Trust Company | Kansas City | Nebraska.
The Nehawka Bank | Nehawka | Nebraska.
Enterprise Bank, NA | Omaha | Nebraska.
Platte Valley National Bank | Scottsbluff | Nebraska.
First National Bank | Sidney | Nebraska.
Anadarko Bank and Trust Company | Anadarko | Oklahoma.
Community Bank | Bristow | Oklahoma.
Oklahoma. Bank & Trust Company | Clinton | Oklahoma.
American Bank of Oklahoma | Collinsville | Oklahoma.
Citizens Bank of Edmond | Edmond | Oklahoma.
First National Bank | Elk City | Oklahoma.
Bank of the Panhandle | Guymon | Oklahoma.
Legacy Bank | Hinton | Oklahoma.
McCurtain County National Bank | Idabel | Oklahoma.
The First State Bank | Keyes | Oklahoma.
City National Bank & Trust Company | Lawton | Oklahoma.
First State Bank of Porter | Locust Grove | Oklahoma.
First National Bank in Marlow | Marlow | Oklahoma.
Community National Bank of Okarche | Okarche | Oklahoma.
First National Bank in Okeene | Okeene | Oklahoma.
The Bankers Bank | Oklahoma City | Oklahoma.
BancFirst | Oklahoma City | Oklahoma.
NBanc—OKC | Oklahoma City | Oklahoma.
The Okmulgee Savings and Loan Association | Okmulgee | Oklahoma.
Bank of the Lakes, N.A | Owasso | Oklahoma.
Farmers State Bank | Quinton | Oklahoma.
First National Bank & Trust Company | Shawnee | Oklahoma.
Triad Bank, N.A | Tulsa | Oklahoma.
Valley National Bank | Tulsa | Oklahoma.
The First National Bank, Vinita | Vinita | Oklahoma.
Platte Valley National Bank | Torrington | Wyoming.
Federal Home Loan Bank of San Francisco—District 11
City National Bank | Beverly Hills | California.
Pacific Premier Bank | Costa Mesa | California.
Fullerton Community Bank | Fullerton | California.
Silvergate Bank | La Jolla | California.
Borrego Springs Bank, N.A | La Mesa | California.
Broadway Federal Bank, f.s.b | Los Angeles | California.
Gold Country Bank, NA | Marysville | California.
Monterey County Bank | Monterey | California.
Metropolitan Bank | Oakland | California.
Community Bank | Pasadena | California.
IndyMac Bank | Pasadena | California.
El Dorado Savings Bank | Placerville | California.
Bank of America | San Francisco | California.
Sincere Federal Savings Bank | San Francisco | California.
National American Bank | San Francisco | California.
East West Bank | San Marino | California.
First FS&LA of San Rafael | San Rafael | California.
First Federal Bank of California | Santa Monica | California.
Santa Clara Valley, N.A | Santa Paula | California.
National Bank of the Redwoods | Santa Rosa | California.
Sunwest Bank | Tustin | California.
Desert Community Bank | Victorville | California.
Washington Mutual Bank | Seattle | Washington.
Federal Home Loan Bank of Seattle—District 12
First National Bank Alaska | Anchorage | Alaska.
Mt. McKinley Bank | Fairbanks | Alaska.
Bank of Guam | Hagatna | Guam.
American Savings Bank | Honolulu | Hawaii.
Wells Fargo Bank Northwest, N.A | Minneapolis | Minnesota.
Big Sky Western Bank | Bozeman | Montana.
First Security Bank | Bozeman | Montana.
Ravalli County Bank | Hamilton | Montana.
American Federal Savings Bank | Helena | Montana.
Glacier Bank of Kalispell | Kalispell | Montana.
First Security Bank | Malta | Montana.
Stockman Bank of Montana | Miles City | Montana.
Glacier Bank of Whitefish | Whitefish | Montana.
Bank of Astoria | Astoria | Oregon.
Bank of Salem | Salem | Oregon.
Columbia River Bank | The Dalles | Oregon.
Cascade Bank | Everett | Washington.
Raymond Federal Bank | Raymond | Washington.
Evergreen Bank | Seattle | Washington.
Washington Federal Savings | Seattle | Washington.
Sterling Savings Bank | Spokane | Washington.
Buffalo Federal Savings Bank | Buffalo | Wyoming.
Hilltop National Bank | Casper | Wyoming.
Big Horn Federal Savings Bank | Greybull | Wyoming.

II. Public Comments

To encourage the submission of public comments on the community support performance of Bank members, on or before July 28, 2006, each Bank will notify its Advisory Council and nonprofit housing developers, community groups, and other interested parties in its district of the members selected for community support review in the 2006-07 second quarter review cycle. 12 CFR 944.2(b)(2)(ii). In reviewing a member for community support compliance, the Finance Board will consider any public comments it has received concerning the member. 12 CFR 944.2(d). To ensure consideration by the Finance Board, comments concerning the community support performance of members selected for the 2006-07 second quarter review cycle must be delivered to the Finance Board on or before the September 1, 2006 deadline for submission of Community Support Statements.

Dated: July 5, 2006.
John P. Kennedy,
General Counsel.

[FR Doc. E6-10779 Filed 7-13-06; 8:45 am]

BILLING CODE 6725-01-P